NUCLEAR REGULATORY COMMISSION

[Docket No. 040-06563]

Notice of Consideration of Amendment Request Mallinckrodt Inc., St. Louis, Missouri, and Opportunity for Providing Comments and Requesting a Hearing

AGENCY: Nuclear Regulatory Commission.

ACTION: Notice of consideration of amendment request for partial decommissioning and opportunity to provide comments and request a hearing.

FOR FURTHER INFORMATION CONTACT: John T. Buckley, Decommissioning Branch, Division of Waste Management, Office of Nuclear Material Safety and Safeguards, U.S. Nuclear Regulatory Commission, Washington, DC 20555-0001. Telephone: (301) 415-6607, fax number (301) 415-5398.

SUPPLEMENTARY INFORMATION:

I. Introduction

The U.S. Nuclear Regulatory Commission is considering issuance of a license amendment to Possession Only License No. STB-401, issued to Mallinckrodt Inc., (Mallinckrodt or the licensee), to authorize Phase 2 decommissioning of its former Columbium-Tantalum (C-T) processing facility in St. Louis, Missouri.

On May 14, 2003, the licensee submitted the C-T Phase 2 Decommissioning Plan (DP) to NRC for review. The Phase 2 DP summarizes the decommissioning activities that will be undertaken to remediate the C-T process building slabs, sewerage, wastewater neutralization basins, and soil affected by C-T processing at the St. Louis, Missouri facility. Radioactive contamination in the soil and debris exists in the form of U-238, U-235, U-234 (and their progeny Th-230 and Ra-226 and others) and Th-232 (and its progeny Ra-228 and Th-228 and others) resulting from licensed operation that occurred from 1961 to 1985. The NRC will require the licensee to remediate the C-T processing facility to meet NRC's decommissioning criteria, and during the decommissioning activities, to maintain effluents and doses within NRC requirements and as low as reasonably achievable. An NRC administrative review, documented in a letter to Mallinckrodt dated July 29, 2003, found the DP acceptable to begin a technical review.

If the NRC approves the Phase 2 DP, the approval will be documented in an amendment to NRC License No. STB-401. However, before approving the proposed amendment, the NRC will need to make the findings required by the Atomic Energy Act of 1954, as amended, and NRC's regulations. These findings will be documented in a Safety Evaluation Report and an Environmental Assessment.

II. Opportunity to Provide Comments

In accordance with 10 CFR 20.1405, the NRC is providing notice to individuals in the vicinity of the site that the NRC is in receipt of a DP, and will accept comments concerning this decommissioning proposal and its associated environmental impacts. Comments with respect to this action should be provided in writing within 30 days of this notice and addressed to John T. Buckley, Decommissioning Branch, Division of Waste Management, Office of Nuclear Material Safety and Safeguards, U.S. Nuclear Regulatory Commission, Washington, DC 20555-0001. Telephone: (301) 415-6607, fax number (301) 415-5398, e-mail: JTB@NRC.gov.

Comments received after 30 days will be considered if practicable to do so, but only those comments received on or before the due date can be assured consideration.

III. Opportunity to Request a Hearing

NRC also provides notice that this is a proceeding on an application for an amendment of a license falling within the scope of subpart L, “Informal Hearing Procedures for Adjudication in Material Licensing Proceedings,” of NRC's rules and practice for domestic licensing proceedings in 10 CFR part 2. Whether or not a person has or intends to provide comments as set out in section II above, pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738, between 7:45 a.m. and 4:15 p.m., Federal workdays; or

2. By mail, telegram, or facsimile (301-415-1101) addressed to the Secretary, U.S. Nuclear Regulatory Commission, Washington, DC 20555-0001. Attention: Rulemakings and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

1. The applicant, Mallinckrodt Inc., Mallinckrodt and Second Streets, P.O. Box 5439, St. Louis, MO 63147, Attention: Mr. Mark Puett, and;

2. The NRC staff, by delivery to the General Counsel, U.S. Nuclear Regulatory Commission, One White Flint North, 11555 Rockville Pike, Rockville, MD 20852-2738, between 7:45 am and 4:15 p.m., Federal workdays, or by mail, addressed to General Counsel, U.S. Nuclear Regulatory Commission, Washington, DC 20555-0001. Because of continuing disruptions in the delivery of mail to United States Government offices, it is requested that requests for hearing be also transmitted to the Office of the General Counsel, either by means of facsimile transmission to (301) 415-3725, or by e-mail to OGCMailCenter@nrc.gov.

In addition to meeting other applicable requirements of 10 CFR part 2 of NRC's regulations, a request for a hearing filed by a person other than an applicant must describe in detail:

1. The interest of the requester in the proceeding;

2. How that interest may be affected by the results of the proceeding, including the reasons why the requestor should be permitted a hearing, with particular reference to the factors set out in section 2.1205(h);

3. The requestor's area of concern about the licensing activity that is the subject matter of the proceeding; and

4. The circumstances establishing that the request for a hearing is timely in accordance with section 2.1205(d).

IV. Further Information

The application for the license amendment and supporting documentation are available for inspection at NRC's Public Electronic reading Room at; http://www.nrc.gov/NRC/ADAMS/index.html. The ADAMS Accession No. for the license amendment request and DP is ML032110490.

Dated at Rockville, Maryland, this 8th day of August, 2003.
For the Nuclear Regulatory Commission.
Daniel M. Gillen,
Chief, Decommissioning Branch, Division of Waste Management, Office of Nuclear Material Safety and Safeguards.

[FR Doc. 03-21147 Filed 8-18-03; 8:45 am]

BILLING CODE 7590-01-P